NATIONAL AERONAUTICS AND SPACE ADMINISTRATION

[Notice: (15-014)]

NASA Advisory Council; Science Committee; Meeting

AGENCY: National Aeronautics and Space Administration. ACTION: Notice of meeting.

SUMMARY: In accordance with the Federal Advisory Committee Act, Pub. L. 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, April 6, 2015, 1:00 p.m. to 5:00 p.m.; Tuesday, April 7, 2015, 8:00 a.m. to 5:30 p.m.; and Wednesday, April 8, 2015, 8:30 a.m. to 5:00 p.m., Local Time.

ADDRESSES: NASA Headquarters, Room 3H42, 300 E Street SW., Washington, DC 20546.

FOR FURTHER INFORMATION CONTACT: Ms. Ann Delo, Science Mission Directorate, NASA Headquarters, Washington, DC 20546, (202) 358-0750, fax (202) 358-2779, or ann.b.delo@nasa.gov. SUPPLEMENTARY INFORMATION: The meeting will be open to the public up to the capacity of the room. The meeting will also be available telephonically and by WebEx. You must use a touch tone phone to participate in this meeting. Any interested person may call the USA toll free conference call number 800-988-9663, passcode 8015, to participate in this meeting by telephone on all three days. A toll number also is available, 517-308-9483 passcode 8015, for all three days. The WebEx link is https://nasa.webex.com/; the meeting number for all three days is 999 655 441 and the password is Science@Apr2015.

The agenda for the meeting includes the following topics:

—Science Mission Directorate FY16 Budget Request

—Subcommittee Reports

—Joint Session with NAC Human Exploration and Operations Committee

—Radiation Environment and Countermeasures for Human Exploration to Mars

Attendees will be required to sign a register and comply with NASA security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 days prior to the meeting: full name; home address; gender; citizenship; date/city/country of birth; title, position or duties; visa information (number, type, expiration date); passport information (number, country, expiration date); employer/affiliation information (name of institution, address, country, telephone); title/position of attendee; and home address to Ms. Ann Delo via email at ann.b.delo@nasa.gov. To expedite admittance, U.S. citizens and Permanent Residents (green card holders) can submit identifying information 3 working days prior to the meeting to Ms. Ann Delo via email at ann.b.delo@nasa.gov. It is imperative that the meeting be held on this date to accommodate the scheduling priorities of the key participants.

Harmony R. Myers,
Acting Advisory Committee Management Officer, National Aeronautics and Space Administration.

[FR Doc. 2015-06061 Filed 3-16-15; 8:45 am]

BILLING CODE 7510-13-P